DEPARTMENT OF THE INTERIOR

Minerals Management Service

Agency Information Collection Activities: Submission for Office of Management and Budget (OMB) Review; Comment Request

AGENCY: Minerals Management Service (MMS), Interior.

ACTION: Notice of extension of a currently approved information collection (OMB Control Number 1010-0041).

SUMMARY: To comply with the Paperwork Reduction Act (PRA) of 1995 (44 U.S.C. 3501, et seq.), we are notifying you that we have submitted the information collection request (ICR) discussed below to the OMB for review and approval. We are also inviting your comments on this ICR.

DATE: Submit written comments by July 3, 2000.

ADDRESSES: You may submit comments directly to the Office of Information and Regulatory Affairs, OMB, Attention: Desk Officer for the Department of the Interior (1010-0041), 725 17th Street, N.W., Washington, D.C. 20503. Mail or handcarry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the rulemaking record, which we will honor to the extent allowable by law. There may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR 250, Subpart K, Production Rates.

OMB Control Number: 1010-0041.

Abstract: The Outer Continental Shelf (OCS) Lands Act, 43 U.S.C. 1331 et seq., gives the Secretary of the Interior (Secretary) the responsibility to preserve, protect, and develop oil and gas resources in the OCS, consistent with the need to make such resources available to meet the Nation's energy needs as rapidly as possible; balance orderly energy resource development with protection of the human, marine, and coastal environments; ensure the public a fair and equitable return on the resources of the OCS; and preserve and maintain free enterprise competition. Section 1334(g)(2) states “. . . the lessee shall produce such oil or gas, or both, at rates . . . to assure the maximum rate of production which may be sustained without loss of ultimate recovery of oil or gas, or both, under sound engineering and economic principles, and which is safe for the duration of the activity covered by the approved plan.”

Regulations at 30 CFR 250, subpart K, implement these statutory requirements. We use the information collected to determine if produced gas can be economically put to beneficial use, to analyze the risks of transporting the liquid hydrocarbons against the value of the resource, and to account for volumes of flared gas and burned liquid hydrocarbons. The MMS uses the information in its efforts to conserve natural resources, prevent waste, and protect correlative rights including the Government's royalty interest. Specifically, MMS uses the information to review records of burning liquid hydrocarbons and venting and flaring actions to ensure that they are not excessive; to determine maximum production and maximum efficient rates; to compare the volume of hydrogen sulfide (H2S) flared and the sulphur dioxide (SO2) emitted to the specified amounts in approved contingency plans; to monitor monthly atmospheric emissions of SO2 for air quality; to review applications for downhole commingling to ensure that action does not result in harm to ultimate recovery or undervalued royalties.

We will protect information from respondents considered proprietary under the Freedom of Information Act (5 U.S.C. 552) and its implementing regulations (43 CFR part 2) and under regulations at 30 CFR 250.196. No items of a sensitive nature are collected. Responses are mandatory.

The PRA provides that an agency may not conduct or sponsor, and a person is not required to respond to, a collection of information unless it displays a currently valid OMB control number. We published a Federal Register notice with the required 60-day comment period soliciting comments on this ICR on November 18, 1999 (64 FR 63053).

Frequency: On occasion or monthly.

Estimated Number and Description of Respondents: Approximately 130 Federal OCS oil and gas lessees.

Estimated Annual Reporting and Recordkeeping “Hour” Burden: 14,189 burden hours, averaging approximately 110 hours per respondent. Refer to the following chart.

Citation 30 CFR 250 Subpart K | Reporting & recordkeeping requirement | Number | Burden (hours) | Annual burden hours
1101(b) | Request approval to produce within 500 feet of a lease line | 21 requests | 5 | 105
1101(c) | Request approval to produce gas cap of a sensitive reservoir | 46 requests | 12 | 552
1102 | Submit forms MMS-126, MMS-127, and MMS-128 | Burden covered under 1010-0038, 1010-0018, and 1010-0017. |  | 0
1102(a)(5) | Submit alternative plan for overproduction status | We are not currently collecting this information. |  | 0
1102(b)(6) | Request extension of time to submit results of semiannual well test | 36 requests | .5 | 18
1103(a) | Request approval of test periods of less than 4 hours and pretest stabilization periods of less than 6 hours | 36 requests | .5 | 18
1103(c) | Provide advance notice of time and date of well tests | 10 notices | .5 | 5
1104(c) | Submit results of all static bottomhole pressure surveys obtained by lessee. Information submitted on form MMS-140 in GOMR | 1,200 surveys | 1 | 1,200
1105(a), (b) | Request special approval to flare or vent oil-well gas | 27 requests | 6 | 162
1105(c) | Request approval to burn produced liquid hydrocarbons | 60 requests | 1 | 60
1105(f) | Submit monthly reports of flared or vented gas containing H2S | 18 operators × 12 mos. = 216 | 2 | 432
1105(f) | H2S Contingency, Exploration, or Development and Production Plans | Burden covered under 1010-0053 and 1010-0049. |  | 0
1106 | Submit application to commingle hydrocarbons produced from multiple reservoirs and inform other lessees having an interest | 91 applications | 6 | 546
1107(b) | Submit proposed plan for enhanced recovery operations | 21 plans | 12 | 252
1107(c) | Submit periodic reports of volumes of oil, gas, or other substances injected, produced, or reproduced | 55 reports | 2 | 110
Reporting subtotal |  | 1,819 responses |  | 3,460
1105(d), (e) | Maintain records for 2 years detailing gas flaring or venting. | 823 platforms | 13 | 10,699
1105(d), (e) | Maintain records for 2 years detailing liquid hydrocarbon burning | 60 occurrences | .5 | 30
Recordkeeping subtotal |  | 130 Recordkeepers |  | 10,729
Total burden |  | 1,949 Responses |  | 14,189

Estimated Annual Reporting and Recordkeeping “Non-Hour Cost” Burden: We have identified no cost burdens for this collection.

Comments: All comments are made a part of the public record. Section 3506(c)(2)(A) of the PRA requires each agency “. . . to provide notice . . . and otherwise consult with members of the public and affected agencies concerning each proposed collection of information . . . .” Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Send your comments directly to the offices listed under the addresses section of this notice. The OMB has up to 60 days to approve or disapprove the information collection but may respond after 30 days. Therefore, to ensure maximum consideration, OMB should receive public comments by July 3, 2000.

MMS Information Collection Clearance Officer: Jo Ann Lauterbach, (202) 208-7744.

Dated: February 16, 2000.
Elmer P. Danenberger,
Chief, Engineering and Operations Division.

[FR Doc. 00-10711 Filed 5-1-00; 8:45 am]

BILLING CODE 4310-MR-P